DEPARTMENT OF VETERANS AFFAIRS

Enhanced-Use Lease Development of Property at the Department of Veterans Affairs (VA) Sepulveda Ambulatory Care Center in Sepulveda, CA

AGENCY: Department of Veterans Affairs.

ACTION: Notice of intent to enter into an enhanced-use lease.

SUMMARY: The Secretary of the Department of Veterans Affairs (VA) intends to enter into two enhanced-use leases with a joint venture consisting of two not-for-profit organizations. Each enhanced-use lease will include a building with an underlying parcel of land. Both parcels are located on approximately 5 acres of the VA Sepulveda Ambulatory Care Center campus in Sepulveda, California. The lessee would develop, finance, renovate, construct, manage, maintain and operate the buildings to provide permanent supportive housing and ancillary services for the homeless, with priority placement for homeless veterans within the community. In addition to such property enhancements and veteran services, VA would receive consideration for the lease, in the form of in-kind services such as training, use of space, and professional counseling services to veteran tenants, and cash in the form of a percentage of revenues from certain filmmaking activities on the property.

FOR FURTHER INFORMATION CONTACT: William Sexton, Office of Asset Enterprise Management (004B), Department of Veterans Affairs, 810 Vermont Avenue, NW., Washington, DC 20420, (202) 273-9470.

SUPPLEMENTARY INFORMATION: Title 8 U.S.C. 8161 et seq. states that the Secretary may enter into an enhanced-use lease if he determines that the implementation of a business plan proposed by the Under Secretary for Health for applying the consideration under such a lease to the provision of medical care and services would result in a demonstrable improvement of services to eligible veterans in the geographic service-delivery area within which the property is located. This project meets this requirement.

Approved: March 8, 2007.
R. James Nicholson,
Secretary of Veterans Affairs.

[FR Doc. E7-4827 Filed 3-15-07; 8:45 am]

BILLING CODE 8320-01-P